DEPARTMENT OF THE INTERIOR

Fish and Wildlife Service

50 CFR Part 18

[Docket No. FWS-R7-ES-2019-0012; FXES111607MRG01-190-FF07CAMM00]

RIN 1018-BD63

Marine Mammals; Incidental Take During Specified Activities: Cook Inlet, Alaska

AGENCY: Fish and Wildlife Service, Interior.

ACTION: Proposed rule; extension of the comment period.

SUMMARY: We, the U.S. Fish and Wildlife Service, in response to a request from Hilcorp Alaska, LLC, Harvest Alaska, LLC, and the Alaska Gasline Development Corporation, have proposed to issue regulations authorizing the nonlethal, incidental take by harassment of small numbers of northern sea otters in State and Federal waters (Alaska and the Outer Continental Shelf) within Cook Inlet, Alaska, as well as all adjacent rivers, estuaries, and coastal lands. Take may result from oil and gas exploration, development, production, and transportation activities occurring for a period of 5 years. We previously published these proposed regulations and requested comments and now, in response to requests, extend the deadline for comment submission.

DATES: The comment period for the proposed rule that published March 19, 2019 (84 FR 10224), is extended. We will accept comments on the proposed incidental take regulations and the accompanying draft environmental assessment that are received or postmarked on or before April 18, 2019. If you comment using the Federal eRulemaking Portal (see ADDRESSES), you must submit your comments by 11:59 p.m. Eastern Time on the closing date.

ADDRESSES:

Document availability: You may view the proposed rule, the application package, supporting information, draft environmental assessment, and other information at http://www.regulations.gov under Docket No. FWS-R7-ES-2019-0012, or these documents may be requested as described under FOR FURTHER INFORMATION CONTACT.

Comment submission: You may submit comments on the proposed rule by one of the following methods:

U.S. mail or hand-delivery: Public Comments Processing, Attn: Docket No. FWS-R7-ES-2019-0012, Division of Policy, Performance, and Management Programs, U.S. Fish and Wildlife Service, 5275 Leesburg Pike, MS: BPHC, Falls Church, VA 22041-3803.

Electronic submission: Federal eRulemaking Portal at: http://www.regulations.gov. Follow the instructions for submitting comments to Docket No. FWS-R7-ES-2019-0012.

We will post all comments at http://www.regulations.gov. You may request that we withhold personal identifying information from public review; however, we cannot guarantee that we will be able to do so. See Request for Public Comments, below, for more information.

Information collection requirements: Send your comments on the requested revision of the information collection request (ICR) to the Desk Officer for the Department of the Interior at OMB-OIRA at 202-395-5806 (fax) or oira_submission@omb.eop.gov (email). Please provide a copy of your comments to the Service Information Collection Clearance Officer, U.S. Fish and Wildlife Service, MS: BPHC, 5275 Leesburg Pike, Falls Church, VA 22041-3803 (mail); or info_coll@fws.gov (email). Please include “1018-0070” in the subject line of your comments.

FOR FURTHER INFORMATION CONTACT: Mr. Christopher Putnam, U.S. Fish and Wildlife Service, MS 341, 1011 East Tudor Road, Anchorage, Alaska 99503, by email at christopher_putnam@fws.gov, or by telephone at 907-786-3844. Persons who use a telecommunications device for the deaf may call the Federal Relay Service at 1-800-877-8339, 24 hours a day, 7 days a week.

Questions regarding the Service's request to revise the Information Collection control number 1018-0070 may be submitted to the Service Information Collection Clearance Officer, U.S. Fish and Wildlife Service, MS: BPHC, 5275 Leesburg Pike, Falls Church, VA 22041-3803 (mail); 703-358-2503 (telephone), or info_coll@fws.gov (email). Please include “1018-0070” in the subject line of your email request.

SUPPLEMENTARY INFORMATION: On March 19, 2019, we, the U.S. Fish and Wildlife Service (Service), published a proposed rule under section 101(a)(5)(A) of the Marine Mammal Protection Act of 1972 (16 U.S.C. 1361(a)(5)(A)) (MMPA), which gives the Secretary of the Interior (Secretary) the authority to allow the incidental, but not intentional, taking of small numbers of marine mammals in response to requests by U.S. citizens engaged in a specified activity in a specified region. The Secretary has delegated authority for implementation of the MMPA to the Service.

Background

On May 3, 2018, Hilcorp Alaska, LLC (Hilcorp), Harvest Alaska, LLC, and the Alaska Gasline Development Corporation, hereinafter referred to as the “applicant,” petitioned the Service to promulgate regulations pursuant to section 101(a)(5)(A) of the MMPA for the nonlethal, unintentional taking of small numbers of northern sea otters (Enhydra lutris kenyoni) incidental to oil and gas exploration, development, production, and transportation activities in Cook Inlet, Alaska, for a period of 5 years. On June 28, 2018, the applicant submitted an amended request providing additional project details.

As described in the proposed rule of March 19, 2019 (84 FR 10224), the proposed incidental take regulations (ITR), if finalized, will not authorize the proposed activities. Rather, they will authorize the nonlethal incidental, unintentional take of small numbers of sea otters associated with those activities based on standards set forth in the MMPA. The proposed ITR includes: Permissible amounts and methods of nonlethal taking; measures to ensure the least practicable adverse impact on sea otters and their habitat; measures to avoid and reduce impacts to subsistence uses; and requirements for monitoring and reporting. For further information, please see the proposed rule.

In comments received thus far on the proposed rule, the Service received requests from the Marine Mammal Commission, the Center for Biological Diversity, and the Cook Inlet Keepers to extend the comment period deadline. Accordingly, we will now accept comments until the date specified above in DATES.

Request for Public Comments

If you wish to comment on the proposed regulations, the associated draft environmental assessment, or the information collection, you may submit your comments by any of the methods described in ADDRESSES. Please identify if you are commenting on the proposed regulations, draft environmental assessment, or the information collection, make your comments as specific as possible, confine them to issues pertinent to the proposed regulations, and explain the reason for any changes you recommend. Where possible, your comments should reference the specific section or paragraph that you are addressing. The Service will consider all comments that are received by the close of the comment period (see DATES).

Comments, including names and street addresses of respondents, will become part of the administrative record. Before including your address, telephone number, email address, or other personal identifying information in your comment, be advised that your entire comment, including your personal identifying information, may be made publicly available at any time. While you can ask us in your comments to withhold from public review your personal identifying information, we cannot guarantee that we will be able to do so.

Dated: March 27, 2019.
Karen Clark,
Acting Regional Director.

[FR Doc. 2019-06677 Filed 4-2-19; 11:15 am]

BILLING CODE 4333-15-P